FEDERAL RESERVE SYSTEM

Agency Information Collection Activities: Announcement Of Board Approval Under Delegated Authority And Submission To OMB

SUMMARY: Background

Notice is hereby given of the final approval of proposed information collections by the Board of Governors of the Federal Reserve System (Board) under OMB delegated authority, as per 5 CFR 1320.16 (OMB Regulations on Controlling Paperwork Burdens on the Public). Board-approved collections of information are incorporated into the official OMB inventory of currently approved collections of information. Copies of the OMB 83-Is and supporting statements and approved collection of information instrument(s) are placed into OMB's public docket files. The Federal Reserve may not conduct or sponsor, and the respondent is not required to respond to, an information collection that has been extended, revised, or implemented on or after October 1, 1995, unless it displays a currently valid OMB control number.

FOR FURTHER INFORMATION CONTACT: Federal Reserve Clearance Officer--Cindy Ayouch--Division of Research and Statistics, Board of Governors of the Federal Reserve System, Washington, DC 20551 (202-452-3829).

OMB Desk Officer--Joseph Lackey--Office of Information and Regulatory Affairs, Office of Management and Budget, New Executive Office Building, Room 10235, Washington, DC 20503.

Final Approval Under OMB Delegated Authority Of The Extension For Three Years, With Revision, Of The Following Reports:

1. Report title: Report of Transaction Accounts, Other Deposits, and Vault Cash

Agency form number: FR 2900

OMB Control number: 7100-0087

Frequency: Weekly, quarterly

Reporters: Depository institutions

Annual reporting hours: 779,506 hours

Estimated average hours per response: 3.50 hours

Number of respondents: 3,888 weekly and 5,135 quarterly

Small businesses are affected.

General description of report: This information collection is mandatory (12 U.S.C. 248(a), 461, 603, and 615) and is given confidential treatment (5 U.S.C. 552(b)(4)).

Abstract: Nonexempt institutions B currently defined as those with reservable liabilities greater than the exemption amount B file the FR 2900 weekly if their total deposits are greater than or equal to the nonexempt deposit cutoff and quarterly if their total deposits are less than the nonexempt deposit cutoff. U.S. branches and agencies of foreign banks and Edge and agreement corporations are required to report the FR 2900 weekly regardless of their deposit size. These mandatory reports are used by the Federal Reserve for administering Regulation D (Reserve Requirements of Depository Institutions) and for constructing, analyzing, and controlling the monetary and reserve aggregates.

Current actions: The Federal Reserve will: (1) change the definition of “nonexempt institutions,” effective with the September 2003 panel shift; (2) institute a new “reduced reporting limit” B any institution with total deposits at or above a $1 billion reduced reporting limit will report the FR 2900 weekly, effective with the September 2003 panel review; (3) reduce the reporting frequency for the two nonpersonal time deposit items on the FR 2900 to one day each year, effective September 2003; (4) raise the nonexempt deposit cutoff to $150.0 million, an upward adjustment from the 2003 indexed level of $112.3 million, effective for the September 2003 panel review; and (5) add the item “net Eurocurrency liabilities” to the FR 2900, to be reported one day each year beginning June 2004.

2. Report title: Annual Report of Total Deposits and Reservable Liabilities

Agency form number: FR 2910a

OMB Control number: 7100-0175

Frequency: Annually

Reporters: Depository institutions

Annual reporting hours: 3,052 hours

Estimated average hours per response: 30 minutes

Number of respondents: 6,103

Small businesses are affected.

General description of report: This information collection is mandatory (12 U.S.C. 248(a) and 461) and is given confidential treatment (5 U.S.C. 552 (b)(4)).

Abstract: Currently, the FR 2910a is filed by (non-FR 2900) institutions whose total deposits are greater than or equal to the exemption amount and by all other institutions whose total deposits cannot be verified as being below the exemption amount. This mandatory report is used by the Federal Reserve for administering Regulation D (Reserve Requirements of Depository Institutions) and for constructing, analyzing, and controlling the monetary and reserve aggregates.

Current actions: The Federal Reserve will add the item “net transaction accounts” to the FR 2910a, effective June 2003; and change the reporting date for the FR 2910a to June 30th, effective June 2003.

3. Report title: Report of Repurchase Agreements (RPs) on U.S. Government and Federal Agency Securities with Specified Holders

Agency form number: FR 2415

OMB control number: 7100-0074

Frequency: Weekly, quarterly, or annually

Reporters: U.S chartered commercial banks, U.S branches and agencies of foreign banks, thrift institutions, and credit unions

Annual reporting hours: 2,615 hours

Estimated average hours per response: 30 minutes

Number of respondents: 84 weekly, 128 quarterly, and 350 annually

Small businesses are not affected.

General description of report: This information collection is voluntary (12 U.S.C. 248(a)(2) and 3105(b)) and is given confidential treatment (5 U.S.C. 552(b)(4)).

Abstract: This voluntary report collects one data item, repurchase agreements (RPs), in denominations of $100,000 or more, in immediately-available funds, on U.S. government and federal agency securities, transacted with specified holders. Depository institutions file the FR 2415 report either weekly, quarterly or annually depending on the volume of their RPs. In general, the larger the respondent's level of RPs, the more frequent its reporting. The weekly panel reports daily data once each week; the quarterly panel files daily data for the four one-week reporting periods that contain quarter-end dates; the annual panel reports daily data only for the week encompassing June 30 each year. The primary purpose of the data is for construction of the RP component of the M3 monetary aggregate and for analysis of depository institutions' funding practices.

Current actions: The Federal Reserve will: (1) raise the thresholds for re-screening existing FR 2415 respondents on all three reporting panels; (2) reduce the cutoff for screening U.S. banks that do not file the FR 2415; and (3) add credit unions to the existing reporting panels.

4. Report title: Monthly Survey of Industrial Electricity Use

Agency form number: FR 2009a,b,c

OMB Control number: 7100-0057

Frequency: Monthly

Reporters: FR 2009a/c: Electric utility companies; and FR 2009b: Cogenerators

Annual reporting hours: FR 2009a/c: 1,920 hours; and FR 2009b: 900 hours

Estimated average hours per response: FR 2009a/c: 1 hour; and FR 2009b: 30 minutes

Number of respondents: FR 2009a/c: 160; and FR 2009b: 150

Small businesses are affected.

General description of report: This information collection is voluntary (12 U.S.C. 225a, 263, 353 et seq, and 461) and is given confidential treatment (5 U.S.C. 552(b)(4)).

Abstract: The survey collects information on the volume of electric power delivered during the month to classes of industrial customers. There are three versions of the survey: the FR 2009a and FR 2009c collect information from 137 electric utilities, the FR 2009a in Standard Industrial Codes (SIC) codes and the FR 2009c in North American Industry Classification System (NAICS) codes. The FR 2009b collects information from 124 manufacturing and mining facilities that generate electric power for their own use (cogenerators). The electric power data are used in deriving the Federal Reserve's monthly index of industrial production (IP) as well as for calculating the monthly estimates of electric power used by industry. The IP index is widely used by the Federal Reserve, other government agencies, businesses, and academia for economic analysis, policy review, and research.

Current actions: The Federal Reserve proposes to continue using the FR 2009a report form. This report form was approved for discontinuance in 2000 owing to the industrial output index being revised to reflect the new North American Industry Classification System (NAICS) from the Standard Industrial Classification (SIC) codes. However, many respondents continue to prefer reporting in SIC codes. The FR 2009c is in the same format as the FR 2009a but uses NAICS instead of SIC codes. The Federal Reserve also proposes to reduce the authorized panel size to 160 utilities and 150 cogenerators to more accurately reflect the target population.

5. Report titles: Quarterly Report of Interest Rates on Selected Direct Consumer Installment Loans and Quarterly Report of Credit Card Plans

Agency form numbers: FR 2835 and FR 2835a

OMB control number: 7100-0085

Frequency: Quarterly

Reporters: Commercial banks

Annual reporting hours: FR 2835: 90 hours; and FR 2835a: 160 hours

Estimated average hours per response: FR 2835: 9 minutes; and FR 2835a: 30 minutes

Number of respondents: FR 2835: 150; and FR 2835a: 80

Small businesses are not affected.

General description of report: These information collections are voluntary (12 U.S.C. 248(a)(2)). The FR 2835a individual respondent data are given confidential treatment (5 U.S.C. 552 (b)(4)), the FR 2835 data however, is not given confidential treatment.

Abstract: The FR 2835 collects the most common interest rate charged at a sample of 150 commercial banks on two types of consumer loans made in a given week each quarter: new auto loans and other loans for consumer goods and personal expenditures.

The FR 2835a collects information on two measures of credit card interest rates from a sample of 100 commercial banks (authorized panel size), selected to include banks with $1 billion or more in credit card receivables, and a representative group of smaller issuers. The data are representative of interest rates paid by consumers on bank credit cards because the panel includes virtually all large issuers and an appropriate sample of other issuers.

Current Actions: The Federal Reserve proposes to decrease the authorized sample size for the FR 2835a from 100 commercial banks to 80 commercial banks; 24 banks currently report. The proposed decrease in panel size would lower the total estimated annual burden from 304 hours to 264 hours.

6. Report title: Bank Holding Company Report of Insured Depository Institutions' Section 23A Transactions with Affiliates

Agency form numbers: FR Y-8

OMB control number: 7100-0126

Frequency: Quarterly

Reporters: Bank holding companies (BHC), financial holding companies, and foreign banking organizations (FBO)

Annual reporting hours: 159,619 hours

Estimated average hours per response: 7.8 hours

Number of respondents: 5,116

Small businesses are affected.

General description of report: This information collection is authorized by section 5(c) of the BHC Act (12 U.S.C. 1844 (c)) and section 225.5 (b) of Regulation Y (12 CFR 225.5 (b)) and is given confidential treatment pursuant to the Freedom of Information Act (5 U.S.C. 552 (b)(4) and (8)).

Abstract: This report collects information on transactions between an insured depository institution and its affiliates that are subject to section 23A of the Federal Reserve Act. The information is used to enhance the Federal Reserve's ability to monitor bank exposures to affiliates and to ensure compliance with section 23A of the Federal Reserve Act. Section 23A of the Federal Reserve Act is one of the most important statutes on limiting exposures to individual institutions and protecting against the expansion of the federal safety net.

Current actions: On April 1, 2003, the Federal Reserve published a notice soliciting comments for 60 days on proposed revisions to the Bank Holding Company Report of Insured Depository Institutions' Section 23A Transactions with Affiliates (68 FR 15728). The Federal Reserve received comment letters from one bank holding company (BHC) trade association and from a small BHC.

The Federal Reserve proposed to add one new item to enhance the ability to monitor compliance with section 23A and three new items on derivative transactions between insured depository institutions and their affiliates to assist in monitoring derivative transactions and establishing policy for regulating such transactions. In addition, the Federal Reserve also proposed to revise the instructions to reflect interpretations and definitions included in Regulation W, the rule that comprehensively implements sections 23A and 23B of the Federal Reserve Act. The new rule was effective April 1, 2003.

One commenter suggested that the Federal Reserve should consider alternate methods to collect the information on derivative transactions between the insured depository institution and their affiliates and questioned the appropriateness of collecting these items on the FR Y-8. The commenter suggested that the Federal Reserve should continue to rely on on-site examinations or survey a specified group of banking organizations on an annual or semi-annual basis to meet the Federal Reserve's need for the information on derivative transactions and to minimize the burden on respondents. Should the Federal Reserve decide to implement the collection of derivative information as proposed, the commenter requested that the Federal Reserve consider delaying the collection of the derivative transaction information until December 2003 to provide respondents with additional time to implement the proposed changes.

The Federal Reserve believes that the collection of information concerning derivative transactions between insured depository institutions and their affiliates on the FR Y-8 is appropriate and necessary to ensure that banks are monitoring the exposure to affiliates from derivative transactions in accordance with Regulation W. Quarterly collection of information on derivative transactions would enable the Federal Reserve to better monitor trends in intercompany derivative transactions between on-site examinations and enable the Federal Reserve to conduct risk-focused examinations. The collection of information on the FR Y-8 report facilitates pre-analysis work and conserves on-site examination resources for verification of compliance and a review of pertinent issues, minimizing examination burden on respondents.

As indicated in the initial proposal, the Federal Reserve believes that the information necessary to report the proposed derivative items should be readily available from the insured depository institutions' internal risk management reports. However, after reviewing the comment received concerning the collection of the new derivative information, the Federal Reserve will postpone the collection of the three new derivative items until December 31, 2003. All other proposed revisions to the FR Y-8, including the new memorandum item to collect maximum aggregate amount of covered transactions, would be effective with the June 30, 2003 report date.

Another commenter suggested that bank holding companies with a single covered transaction be permitted to file the FR Y-8 report on a one-time basis or annually. Quarterly reporting enhances the Federal Reserve's ability to monitor ongoing compliance with section 23A and to monitor trends on an aggregate basis. The reporting frequency will remain the same for all insured depository institutions.

Final Approval Under OMB Delegated Authority The Extension For Three Years, Without Revision, Of The Following Reports:

1. Report title: Allocation of Low Reserve Tranche and Reservable Liabilities Exemption

Agency form number: FR 2930/2930a

OMB control number: 7100-0088

Frequency: Annually and on occasion

Reporters: Depository institutions

Annual reporting hours: 47 hours

Estimated average hours per response: 15 minutes

Number of respondents: 186

Small businesses are affected.

General description of report: This information collection is mandatory: FR 2930 (12 U.S.C. 248(a), 461, 603, and 615) and FR 2930a (12 U.S.C. 248(a) and 461) and is given confidential treatment (5 U.S.C. 552(b)(4)).

Abstract: The FR 2930 and FR 2930a provide information on the allocation of the low reserve tranche and reservable liabilities exemption for depository institutions having offices (or groups of offices) that file separate FR 2900 deposit reports. The data collected on these reports are needed for the calculation of required reserves.

2. Report title: Report of Foreign (Non-U.S.) Currency Deposits

Agency form number: FR 2915

OMB control number: 7100-0237

Frequency: Quarterly

Reporters: Depository institutions

Annual reporting hours: 306 hours

Estimated average hours per response: 30 minutes

Number of respondents: 153

Small businesses are affected.

General description of report: This information collection is mandatory (12 U.S.C. 248(a)(2) and 347(d)) and is given confidential treatment (5 U.S.C. 552(b)(4)).

Abstract: The FR 2915 collects weekly averages of the amounts outstanding for foreign (non-U.S.) currency deposits held at U.S. offices of depository institutions, converted to U.S. dollars and included in the FR 2900. Foreign currency deposits are subject to reserve requirements and, therefore, are included in the FR 2900. However, because foreign currency deposits are not included in the monetary aggregates, the FR 2915 data are used to remove foreign currency deposits from FR 2900 data in calculating the monetary aggregates. FR 2915 data also are used to monitor the volume of foreign currency deposits.

3. Report title: The Senior Loan Officer Opinion Survey on Bank Lending Practices

Agency form number: FR 2018

OMB Control number: 7100-0058

Frequency: Up to six times a year

Reporters: Large U.S. commercial banks and large U.S. branches and agencies of foreign banks

Annual reporting hours: 1,008 hours

Estimated average hours per response: 2 hours

Number of respondents: 84

Small businesses are not affected.

General description of report: This information collection is voluntary (12 U.S.C. 248 (a), 324, 335, 3101, 3102, and 3105) and is given confidential treatment (5 U.S.C. 552 (b)(4)).

Abstract: The FR 2018 is conducted with a senior loan officer at each respondent bank up to six times a year. The purpose of the survey is to provide qualitative information with respect to bank credit developments on current price and flow developments and evolving techniques and practices in the U.S. banking sector. Consequently, a significant portion of the questions in each survey consists of unique questions on topics of timely interest. There is the option to survey other types of respondents (such as other depository institutions, bank holding companies, or corporations) should the need arise. The FR 2018 survey provides crucial information for monitoring and understanding the evolution of lending practices at banks and developments in credit markets.

4. Report title: Senior Financial Officer Survey

Agency form number: FR 2023

OMB Control number: 7100-0223

Frequency: Up to four times a year

Reporters: Large commercial banks

Annual reporting hours: 240 hours

Estimated average hours per response: 1 hour

Number of respondents: 60

Small businesses are not affected.

General description of report: This information collection is voluntary (12 U.S.C. 225a, 248(a), and 263). It has been anticipated that most, if not all, of the information to be collected on the FR 2023 would be exempt from disclosure under subsection (b)(4) of the Freedom of Information Act (5 U.S.C. 552 (b)(4)). However, it also is possible that some information that might be collected on this survey may not be exempt, depending on the specific questions to be asked. Thus, the confidentiality status of the survey would be determined on a case-by-case basis.

Abstract: The FR 2023 collects qualitative and limited quantitative information about liability management, the provision of financial services, and the functioning of key financial markets from a selection of sixty large commercial banks (or, if appropriate, from other depository institutions or major financial market participants). Although the primary panel of respondents has been, and will likely continue to be, appropriate for most survey topics, panels based on alternative criteria may be more appropriate and efficient for some situations. Consequently, the option would continue to be available to survey other depository institutions or major participants in financial markets. This option greatly enhances the potential scope and utility of the survey. Responses are obtained from a senior officer at each participating institution through a telephone interview. The survey is conducted when major informational needs arise and cannot be met from existing data sources. The survey does not have a fixed set of questions; each survey consists of a limited number of questions directed at topics of timely interest. The survey helps pinpoint developing trends in bank funding practices, enabling the Federal Reserve to distinguish these trends from transitory phenomena.

Final Approval Under OMB Delegated Authority The Discontinuation Of The Following Report:

1. Report title: Report of Certain Eurocurrency Transactions

Agency form number: FR 2950/2951

OMB control number: 7100-0087

Frequency: Weekly, quarterly

Reporters: Depository institutions

Annual reporting hours: 20,248 hours

Estimated average hours per response: 1 hour

Number of respondents: 389 weekly and 5 quarterly

Small businesses are affected.

General description of report: This information collection is mandatory: FR 2950 (12 U.S.C. 248(a), 461, 603, and 615) and FR 2951 (12 U.S.C. 248(a), 461, and 347(d)) and is given confidential treatment (5 U.S.C. 552(b)(4)).

Abstract: The FR 2950/2951 collects information on Eurocurrency liabilities from depository institutions that obtain funds from foreign (non-U.S.) sources or that have foreign branches. This report is filed with the same frequency as the FR 2900. These mandatory reports are used by the Federal Reserve for administering Regulation D (Reserve Requirements of Depository Institutions) and for constructing, analyzing, and controlling the monetary and reserve aggregates.

Current actions: The Federal Reserve will discontinue the FR 2950/2951 in May 2004, contingent upon some report items being added to the bank credit family of reports. (The Weekly Report of Assets and Liabilities for Large Banks: FR 2416; OMB No. 7100-0075; the Weekly Report of Selected Assets: FR 2644; OMB No. 7100-0075; and the Weekly Report of Assets and Liabilities for Large U.S Branches and Agencies of Foreign Banks: FR 2069; OMB No. 7100-0030).

Final Approval Under OMB Delegated Authority To Conduct The Following Survey:

1. Report title: Survey of Small Business Finances

Agency form number: FR 3044

OMB control number: 7100-0262

Frequency: One-time

Reporters: Small businesses

Annual reporting hours: 5,100 hours

Estimated average hours per response: 1 hour

Number of respondents: 5,100

Small businesses are affected.

General description of report: This information collection would be voluntary and authorized by law (12 U.S.C. 252(a)(1), 1817(j), and 1841 et seq.). Individual respondent data would be provided in a public-use file. However, any information that could identify respondent firms, or the financial institutions that they use, would be excluded from the public dataset pursuant to the Freedom of Information Act (5 U.S.C. 552(b)(4)).

Abstract: This voluntary survey would be similar to the 1987, 1993, and 1998 Surveys of Small Business Finances (SSBF). In part, this survey would be conducted to collect information needed to satisfy the requirements of Section 2227 of the Economic Growth and Regulatory Paperwork Reduction Act of 1996. This law requires the Board to conduct a study and submit a report to the Congress every five years “...detailing the extent of small business lending by all creditors....”

The 2003 SSBF would gather data from small businesses on their financial relationships, credit experiences, lending terms and conditions, income and balance sheet information, the location and types of financial institutions used, and other firm characteristics. The survey would be conducted by a private survey firm, which would be chosen in a competitive bidding process. In conjunction with the Federal Reserve, the survey firm would update and finalize the questionnaire for the new survey. The survey firm would then conduct two pretests with a minimum of fifty small business firms in each pre-test. Following pre-test revisions to the questionnaire, the survey would be conducted by means of computer-assisted telephone interviews. Interviewing would likely commence in early 2004.

Board of Governors of the Federal Reserve System, June 23, 2003.
Jennifer J. Johnson
Secretary of the Board.

[FR Doc. 03-16270 Filed 6-26-03; 8:45 am]

BILLING CODE 6210-01-S